DEPARTMENT OF ENERGY

Federal Energy Regulatory Commission

Combined Notice of Filings #1

Take notice that the Commission received the following electric rate filings:

Docket Numbers: ER16-2527-004; ER12-1502-007; ER12-1504-007; ER15-190-019; ER17-2-005; ER18-1343-012; ER20-1487-003.

Applicants: Frontier Windpower II, LLC, Carolina Solar Power, LLC, Frontier Windpower, LLC, Duke Energy Renewable Services, LLC, Cimarron Windpower II, LLC, Ironwood Windpower, LLC, Caprock Solar I LLC.

Description: Triennial Updated Market Power Analysis for the Southwest Power Pool of the Duke SPP MBR Sellers.

Filed Date: 12/20/21.

Accession Number: 20211220-5269.

Comment Date: 5 p.m. ET 2/18/22.

Docket Numbers: ER19-2434-002; ER19-2534-002.

Applicants: Citizens Energy Corporation, Citizens Imperial Solar LLC.

Description: Triennial Market Power Analysis for Southwest Region of Citizens Imperial Solar LLC, et al.

Filed Date: 12/20/21.

Accession Number: 20211220-5266.

Comment Date: 5 p.m. ET 2/18/22.

Docket Numbers: ER21-2655-002.

Applicants: Southwestern Public Service Company.

Description: Tariff Amendment: SPS-Llano-LGIA-Second Amnd-Supl Filing-101-0.0.2 to be effective 1/20/2022.

Filed Date: 12/21/21.

Accession Number: 20211221-5101.

Comment Date: 5 p.m. ET 1/11/22.

Docket Numbers: ER21-2900-002.

Applicants: Duke Energy Florida, LLC, Duke Energy Carolinas, LLC, Duke Energy Progress, LLC.

Description: Tariff Amendment: Duke Energy Progress, LLC submits tariff filing per 35.17(b): Errata Filing of Revisions to Joint OATT (Network Contract Demand) to be effective 11/17/2021.

Filed Date: 12/21/21.

Accession Number: 20211221-5075.

Comment Date: 5 p.m. ET 1/11/22.

Docket Numbers: ER22-210-001.

Applicants: ENGIE 2020 ProjectCo-NH1 LLC.

Description: Tariff Amendment: Amendment to Market-Base Rate Schedule Submittal to be effective 12/26/2021.

Filed Date: 12/21/21.

Accession Number: 20211221-5124.

Comment Date: 5 p.m. ET 1/11/22.

Docket Numbers: ER22-692-000.

Applicants: PJM Interconnection, L.L.C.

Description: § 205(d) Rate Filing: Original NSA, SA No. 6264; Queue No. V1-026 and V1-027 to be effective 11/19/2021.

Filed Date: 12/20/21.

Accession Number: 20211220-5241.

Comment Date: 5 p.m. ET 1/10/22.

Docket Numbers: ER22-693-000.

Applicants: PJM Interconnection, L.L.C.

Description: § 205(d) Rate Filing: Original NSA, Service Agreement No. 6282; Queue No. AD2-160/AE2-253 to be effective 11/19/2021.

Filed Date: 12/20/21.

Accession Number: 20211220-5246.

Comment Date: 5 p.m. ET 1/10/22.

Docket Numbers: ER22-694-000.

Applicants: Midcontinent Independent System Operator, Inc.

Description: § 205(d) Rate Filing: 2021-12-21_SA 3421 MEC-Heartland Divide Wind II 1st Rev GIA (J583) to be effective 12/7/2021.

Filed Date: 12/21/21.

Accession Number: 20211221-5027.

Comment Date: 5 p.m. ET 1/11/22.

Docket Numbers: ER22-695-000.

Applicants: Midcontinent Independent System Operator, Inc.

Description: § 205(d) Rate Filing: 2021-12-21_SA 3473 Ameren IL-Hickory Point Solar Energy 1st Rev GIA (J815) to be effective 12/8/2021.

Filed Date: 12/21/21.

Accession Number: 20211221-5032.

Comment Date: 5 p.m. ET 1/11/22.

Docket Numbers: ER22-696-000.

Applicants: Southwest Power Pool, Inc.

Description: § 205(d) Rate Filing: 3877 WAPA & Central Power Electric Coop Interconnection Agr to be effective 12/20/2021.

Filed Date: 12/21/21.

Accession Number: 20211221-5047.

Comment Date: 5 p.m. ET 1/11/22.

Docket Numbers: ER22-697-000.

Applicants: The Connecticut Light and Power Company.

Description: § 205(d) Rate Filing: Related Facilities Agreement—Revolution Wind, LLC to be effective 12/21/2021.

Filed Date: 12/21/21.

Accession Number: 20211221-5048.

Comment Date: 5 p.m. ET 1/11/22.

Docket Numbers: ER22-698-000.

Applicants: Tri-State Generation and Transmission Association, Inc.

Description: Tariff Amendment: Notice of Cancellation of Rate Schedule No. 283 to be effective 11/29/2021.

Filed Date: 12/21/21.

Accession Number: 20211221-5079.

Comment Date: 5 p.m. ET 1/11/22.

Docket Numbers: ER22-699-000.

Applicants: Valley Electric Association, Inc.

Description: § 205(d) Rate Filing: Annual TRBA Filing 2021 to be effective 1/1/2022.

Filed Date: 12/21/21.

Accession Number: 20211221-5092.

Comment Date: 5 p.m. ET 1/11/22.

Docket Numbers: ER22-700-000.

Applicants: PacifiCorp.

Description: § 205(d) Rate Filing: Engineering and Procurement Agreement—Copco No. 2 to be effective 2/19/2022.

Filed Date: 12/21/21.

Accession Number: 20211221-5125.

Comment Date: 5 p.m. ET 1/11/22.

Docket Numbers: ER22-701-000.

Applicants: PacifiCorp.

Description: Tariff Amendment: Termination of RS 748 BPA Constr Agmt Green Springs BAA Move to be effective 3/15/2022.

Filed Date: 12/21/21.

Accession Number: 20211221-5165.

Comment Date: 5 p.m. ET 1/11/22.

Docket Numbers: ER22-702-000.

Applicants: PJM Interconnection, L.L.C.

Description: § 205(d) Rate Filing: Revisions to OATT Sch. 12-Appendices re: 2022 RTEP Annual Cost Allocations to be effective 1/1/2022.

Filed Date: 12/21/21.

Accession Number: 20211221-5175.

Comment Date: 5 p.m. ET 1/11/22.

Take notice that the Commission received the following PURPA 210(m)(3) filings:

Docket Numbers: QM22-6-000.

Applicants: South Texas Electric Cooperative, Inc.

Description: Application of South Texas Electric Cooperative, Inc. to Terminate Its Mandatory Purchase Obligation under the Public Utility Regulatory Policies Act of 1978.

Filed Date: 12/21/21.

Accession Number: 20211221-5143.

Comment Date: 5 p.m. ET 1/18/22.

Take notice that the Commission received the following electric reliability filings:

Docket Numbers: RR21-3-001.

Applicants: North American Electric Reliability Corporation.

Description: Joint Compliance Filing of The North American Electric Reliability Corporation and Texas Reliability Entity, Inc. for Approval of Amendment to the Bylaws of Texas Reliability Entity, Inc.

Filed Date: 12/21/21.

Accession Number: 20211221-5174.

Comment Date: 5 p.m. ET 1/11/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2021.
Kimberly D. Bose,
Secretary.

[FR Doc. 2021-28209 Filed 12-27-21; 8:45 am]

BILLING CODE 6717-01-P